GENERAL SERVICES ADMINISTRATION

Interagency Committee for Medical Records; Cancellation of a Medical Standard Form

AGENCY: Office of Management Services, GSA.

ACTION: Notice.

SUMMARY: Because of low usage, the following Standard Form is cancelled:

SF 537, Medical Record—Pediatric Graphic Chart.

FOR FURTHER INFORMATION CONTACT: Ms. Barbara Williams, General Services Administration, (202) 501-0581.

DATES: Effective June 21, 2002.

Dated: June 13, 2002.
Barbara M. Williams,
Deputy Standard and Optional Forms Management Officer, General Services Administration.

[FR Doc. 02-15737 Filed 6-20-02; 8:45 am]

BILLING CODE 6820-BR-M